DEPARTMENT OF THE INTERIOR

Geological Survey

[Docket No. USGS-2025-0008; OMB Control Number 1028-0130; GX25WB12E6R22]

Agency Information Collection Activities; Submission to the Office of Management and Budget for Review and Approval; Wildlife Video Data Scoring

AGENCY: U.S. Geological Survey, Interior.

ACTION: Notice of information collection; request for comment.

SUMMARY: In accordance with the Paperwork Reduction Act (PRA) of 1995, we, the U.S. Geological Survey (USGS) are proposing to renew an information collection.

DATES: Interested persons are invited to submit comments on or before August 27, 2025.

ADDRESSES: You may submit comments by one of the following methods:

Internet: https://www.regulations.gov. Search for and submit comments on Docket No. USGS-2025-0008.

U.S. Mail: USGS, Information Collections Clearance Officer, 12201 Sunrise Valley Drive, MS 159, Reston, VA 20192.

FOR FURTHER INFORMATION CONTACT: Heather Johnson by email at heatherjohnson@usgs.gov, or by telephone at 907-786-7155. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA of 1995 (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format. An agency may not conduct or sponsor, nor is an individual required to respond to a collection of information unless it displays a currently valid OMB control number.

A Federal Register notice with a 60-day public comment period soliciting comments on this collection of information was published on May 19, 2025, (90 FR 21332) No comments were received.

As part of our continuing effort to reduce paperwork and respondent burdens, we are again soliciting comments from the public and other Federal agencies on the proposed ICR that is described below. We are especially interested in public comment addressing the following:

(1) Whether or not the collection of information is necessary for the proper performance of the functions of the USGS, including whether or not the information will have practical utility;

(2) The accuracy of our estimate of the burden for this collection of information, including the validity of the methodology and assumptions used;

(3) Ways to enhance the quality, utility, and clarity of the information to be collected; and

(4) How the USGS might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: We have developed an online application that enables collaborators and volunteers to watch video clips collected from wildlife video camera collars and enter data observed in the clips. Information collected from the videos will be analyzed to assess wildlife activity budgets, reproduction, diets, and preferred habitat conditions, and used to better understand mechanisms influencing wildlife movements, distributions and population trends. Results of the analyses will be published in peer-reviewed scientific publications that will be available to the public.

There has been a reduction in burden hours in this renewal, as most of the expected project work has already been completed.

Title of Collection: Wildlife Video Data Scoring.

OMB Control Number: 1028-0130.

Form Number: None.

Type of Review: Extension of a currently approved collection.

Respondents/Affected Public: Project collaborators which include DOI agency employees and volunteers.

Total Estimated Number of Annual Respondents: 14.

Total Estimated Number of Annual Responses: 8,414.

Estimated Completion Time per Response to read announcement/instructions: 120 minutes on average.

Estimated Completion Time per Response to complete survey: 2 minutes on average.

Total Estimated Number of Annual Burden Hours: 308.

Respondent's Obligation: Voluntary.

Frequency of Collection: Depends on the time and interest of the respondent. Some respondents will enter data on a weekly basis, others will enter data less frequently.

Total Estimated Annual Nonhour Burden Cost: None.

The authority for this action is the Paperwork Reduction Act of 1995 (44 U.S.C. 3501 et seq.).

Christian E. Zimmerman,
Center Director Supervisory Biologist.

[FR Doc. 2025-14106 Filed 7-25-25; 8:45 am]

BILLING CODE 4338-11-P